DEPARTMENT OF THE INTERIOR

Bureau of Reclamation

Information Collection Activities; Proposed Collection; Comment Request

AGENCY: Bureau of Reclamation, Interior.

ACTION: Notice and request for comments.

SUMMARY: In accordance with the Paperwork Reduction Act of 1995, this notice announces that the Bureau of Reclamation (Reclamation) intends to seek approval of the following proposed new information collection: Yakima Basin Recreation Survey. Reclamation will use two separate forms to collect this information. Form No. 7-2570, Yakima Basin Reservoir Recreation Survey, and Form No. 7-2571, Yakima Basin River Recreation Survey. Before submitting the information collection request to the Office of Management and Budget for approval, Reclamation is soliciting comments on specific aspects of the information collection.

DATES: Comments on this notice must be received by April 17, 2006.

ADDRESSES: Address all comments concerning this notice to Bureau of Reclamation, Denver Federal Center, Attention: Darrell Welch, D-8580, PO Box 25007, Denver, Colorado, 80225-0007.

FOR FURTHER INFORMATION CONTACT: For further information or a copy of the proposed collection of information forms, contact Mr. Darrell Welch at 303-445-2711.

SUPPLEMENTARY INFORMATION: Comments are invited on: (a) Whether the proposed collection of information is necessary for the proper performance of Reclamation's functions, including whether the information will have practical use; (b) the accuracy of Reclamation's estimated time and cost burdens of the proposed collection of information, including the validity of the methodology and assumptions used; (c) ways to enhance the quality, use, and clarity of the information to be collected; and (d) ways to minimize the burden of the collection of information on respondents, including increased use of automated collection techniques or other forms of information technology. Consideration will be given to comments and suggestions submitted within 60 days of this publication.

Title: Yakima Basin Recreation Survey.

Abstract: The Yakima River Basin is located in south central Washington State in the counties of Benton, Franklin, Yakima, and Kittitas. The seven major reservoirs in the Yakima River Basin are Bumping Lake, Clear Lake, Cle Elum, Kachess, Keechelus, Easton, and Rimrock. The five major rivers in the Yakima River Basin are the Yakima, Nachess, Cle Elum, Bumping and Tieton. Reclamation is in the process of preparing a Yakima River Basin Water Storage Feasibility Study and associated Environmental Impact Statement that will address options for supplying additional water storage for the Yakima River Basin. Currently, site-specific recreation-related information is unavailable for the primary reservoirs and rivers. In order to accurately assess the current recreation and recreation-related economic environment within the Yakima River Basin, additional information must be collected from the recreationists who visit the reservoirs and rivers within the basin. Further, the survey information will allow Reclamation to adequately assess the recreation impacts that different options may have on the environment and the local economy.

Description of Respondents: Yakima River Basin reservoir and river recreationists come from the cities of Yakima and Ellensburg, Washington, as well as the smaller communities within the basin. A large number of visitors also come from western Washington, in particular the Puget Sound communities of Seattle and Tacoma. A smaller portion of recreationists within the basin are out-of-state visitors.

Frequency: This is a one-time voluntary survey.

Estimated Completion Time: An average of 20 minutes per respondent.

Estimated Total Annual Responses: 3,216.

Number of Responses per Respondent: 1.0.

Estimated Total Annual Burden Hours: 1,072.

Estimate of Burden for Each Form:

Form No. | Burden estimate per form (in minutes) | Number of respondents | Annual burden on respondents (in hours)
(Rivers) | 20 | 1,340 | 447
(Reservoirs) | 20 | 1,876 | 625

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: February 7, 2006.
Jerry Kelso,
Area Manager, Upper Columbia Area Office, Pacific Northwest Region.

[FR Doc. E6-2211 Filed 2-15-06; 8:45 am]

BILLING CODE 4310-MN-P